ENVIRONMENTAL PROTECTION AGENCY

[FRL-9765-2]

Environmental Laboratory Advisory Board Meeting Dates and Agenda

AGENCY: Environmental Protection Agency (EPA).

ACTION: Notice of teleconference and face-to-face meetings.

SUMMARY: The Environmental Protection Agency's Environmental Laboratory Advisory Board (ELAB), as previously announced, holds teleconference meetings the third Wednesday of each month at 1:00 p.m. Eastern Time (ET) and two face-to-face meetings each calendar year.

FOR FURTHER INFORMATION CONTACT: Written comments on laboratory accreditation issues and/or environmental monitoring or measurement issues are encouraged and should be sent to Ms. Lara P. Phelps, Designated Federal Official, U.S. EPA, 109 T. W. Alexander Drive, Mail Code E243-05, Research Triangle Park, NC 27709 or emailed to phelps.lara@epa.gov.

SUPPLEMENTARY INFORMATION: For 2013, teleconference only meetings will be February 20, 2013 at 1:00 p.m. ET; March 20, 2013 at 1:00 p.m. ET; April 17, 2013 at 1:00 p.m. ET; May 15, 2013 at 1:00 p.m. ET; June 19, 2013 at 1:00 p.m. ET; July 17, 2013 at 1:00 p.m. ET; September 18, 2013 at 1:00 p.m. ET; October 16, 2013 at 1:00 p.m. ET; November 20, 2013 at 1:00 p.m. ET; and December 18, 2013 at 1:00 p.m. ET to discuss the ideas and views presented at the previous ELAB meetings, as well as new business. Items to be discussed by ELAB over these coming meetings include: (1) Issues in continuing the expansion of national environmental accreditation; (2) ELAB support to the Agency's on issues relating to measurement and monitoring for all programs; and (3) follow-up on some of ELAB's past recommendations and issues. In addition to these teleconferences, ELAB will be hosting their two face-to-face meetings with teleconference line also available on January 14, 2013 at the Hyatt Regency Denver in Denver, CO at 8:00 a.m. Mountain Time and on August 5, 2013 at the Hyatt Regency San Antonio in San Antonio, TX at 9:00 a.m. Central Time.

Members of the public are invited to listen to the teleconference calls, and time permitting, will be allowed to comment on issues discussed during this and previous ELAB meetings. Those persons interested in attending should call Lara P. Phelps on (919) 541-5544 to obtain teleconference information. For information on access or services for individuals with disabilities, please contact Lara P. Phelps on the number above. To request accommodation of a disability, please contact Lara P. Phelps, preferably at least 10 days prior to the meeting, to give the EPA as much time as possible to process your request.

Dated: December 18, 2012.
Glenn Paulson,
EPA Science Advisor.

[FR Doc. 2012-31536 Filed 1-2-13; 8:45 am]

BILLING CODE 6560-50-P